DEPARTMENT OF TRANSPORTATION

Office of the Secretary

Aviation Proceedings, Agreements Filed the Week Ending February 1, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0030.

Date Filed: January 28, 2008.

Parties: Members of the International Air Transport Association

Subject: TC3 Japan, Korea—South East Asia except between Korea (Rep. of) and Guam, Northern Mariana Islands (Memo 1131), Minutes: TC3 Bangkok, 12-19 November 2007, (Memo 1157), Intended effective date: 1 April 2008.

Docket Number: DOT-OST-2008-0032.

Date Filed: January 28, 2008.

Parties: Members of the International Air Transport Association.

Subject: TC3 Japan, Korea-South East Asia between Korea (Rep. of) and Guam, Northern Mariana Islands Resolutions & Specified Fares Tables, (Memo 1132), Minutes: TC3 Bangkok, 12-19 November 2007, (Memo 1157), Intended effective date: 1 April 2008.

Docket Number: DOT-OST-2008-0033.

Date Filed: January 28, 2008.

Parties: Members of the International Air Transport Association.

Subject: TC3 Japan-Korea Resolutions & Specified Fares Tables, (Memo 1133), Minutes: TC3 Bangkok, 12-19 November 2007, (Memo 1157), Intended effective date: 1 April 2008.

Docket Number: DOT-OST-2008-0034.

Date Filed: January 28, 2008.

Parties: Members of the International Air Transport Association.

Subject: TC3 Areawide Resolutions, (Memo 1134), Minutes: TC3 Bangkok, 12-19 November 2007, (Memo 1157), Intended effective date: 1 April 2008.

Docket Number: DOT-OST-2008-0035.

Date Filed: January 28, 2008.

Parties: Members of the International Air Transport Association.

Subject: TC3 South East Asia—South Asian Subcontinent Resolutions & Specified Fares Tables, (Memo 1135), Technical Correction: TC3 South East Asia—South Asian Subcontinent Resolutions & Specified Fares Tables, (Memo 1147), Minutes: TC3 Bangkok, 12-19 November 2007, (Memo 1157), Intended effective date: 1 April 2008.

Docket Number: DOT-OST-2008-0036.

Date Filed: January 28, 2008.

Parties: Members of the International Air Transport Association.

Subject: TC3 Within South Asian Subcontinent, Resolutions & Specified Fares Tables, (Memo 1136), Minutes: TC3 Bangkok, 12-19 November 2007, (Memo 1157), Intended effective date: 1 April 2008.

Docket Number: DOT-OST-2008-0037.

Date Filed: January 28, 2008.

Parties: Members of the International Air Transport Association.

Subject: TC3 Within South East Asia except between Malaysia and Guam, Resolutions & Specified Fares Tables, (Memo 1137), Minutes: TC3 Bangkok, 12-19 November 2007, (Memo 1157), Intended effective date: 1 April 2008.

Docket Number: DOT-OST-2008-0038.

Date Filed: January 28, 2008.

Parties: Members of the International Air Transport Association.

Subject: TC3 Japan, Korea—South Asian Subcontinent, Resolutions & Specified Fares Tables, (Memo 1138), Minutes: TC3 Bangkok, 12-19 November 2007, (Memo 1157), Intended effective date: 1 April 2008.

Docket Number: DOT-OST-2008-0039.

Date Filed: January 28, 2008.

Parties: Members of the International Air Transport Association.

Subject: TC3 Japan, Korea-South West Pacific except between Korea (Rep. of) and America Samoa, Resolutions & Specified Fares Tables, (Memo 1139), Technical Correction: TC3 Japan, Korea-South West Pacific except between Korea (Rep. of) and America Samoa, Resolutions & Specified Fares Tables, (Memo 1143), Minutes: TC3 Bangkok, 12-19 November 2007, (Memo 1157), Intended effective date: 1 April 2008.

Docket Number: DOT-OST-2008-0040.

Date Filed: January 28, 2008.

Parties: Members of the International Air Transport Association.

Subject: TC3 Japan, Korea-South West Pacific between Korea (Rep. of) and America Samoa, Resolutions & Specified Fares Tables, (Memo 1140), Minutes: TC3 Bangkok, 12-19 November 2007, (Memo 1157), Intended effective date: 1 April 2008.

Docket Number: DOT-OST-2008-0041.

Date Filed: January 28, 2008.

Parties: Members of the International Air Transport Association.

Subject: TC3 Within South East Asia between Malaysia and Guam, Resolutions & Specified Fares Tables, (Memo 1141), Minutes: TC3 Bangkok, 12-19 November 2007, (Memo 1157), Intended effective date: 1 April 2008.

Docket Number: DOT-OST-2008-0042.

Date Filed: January 29, 2008.

Parties: Members of the International Air Transport Association.

Subject: TC3 South West Pacific—South Asian Subcontinent, South East Asia Resolutions & Specified Fares Tables, (Memo 1142), Minutes: TC3 Bangkok, 12-19 November 2007, (Memo 1157), Intended effective date: 1 April 2008.

Docket Number: DOT-OST-2008-0047.

Date Filed: January 31, 2008.

Parties: Members of the International Air Transport Association.

Subject: PSC/RESO/140, 29th IATA Passenger Services Conference (PSC), Resolution 724—Ticket Notices, Intended effective date: 1 June 2008.

Renee V. Wright,
Program Manager, Docket Operations Federal Register Liaison.

[FR Doc. E8-12902 Filed 6-10-08; 8:45 am]

BILLING CODE 4910-9X-P